DEPARTMENT OF COMMERCE

National Oceanic and Atmospheric Administration

[I.D. 091200B]

North Pacific Fishery Management Council; Public Meetings; Correction

AGENCY: National Marine Fisheries Service (NMFS), National Oceanic and Atmospheric Administration (NOAA), Commerce.

ACTION: Notice of public meetings; correction.

SUMMARY: The North Pacific Fishery Management Council (Council) and its advisory committees will hold public meetings. This document corrects notice document published in the Federal Register on September 18, 2000.

DATES: The meetings will be held on Monday October 2, 2000, through Tuesday October 9, 2000.

ADDRESSES: All meetings will be held at the Centennial Building, 330 Harbor Drive, Sitka, AK, unless otherwise posted at the Centennial Building and on the Council’s website: www.fakr.noaa.gov/npfmc.

Council address: North Pacific Fishery Management Council, 605 W. 4th Ave., Suite 306, Anchorage, AK 99501-2252.

FOR FURTHER INFORMATION CONTACT: Council staff, telephone: 907-271-2809.

SUPPLEMENTARY INFORMATION:

Need for Correction

This notice was previously published in the Federal Register on Monday, September 18, 2000 (65 FR 56295). The previous notice contained numerous errors and agenda items were inadvertently omitted. This notice is being re-published in its entirety.

The Council’s Advisory Panel will begin at 8 a.m., Monday, October 2, and continue through Thursday, October 5. The Scientific Committee will begin on Tuesday, October 3, and continue through Wednesday, October 4.

The Council will begin their plenary session at 8 a.m. on Wednesday, October 4, continuing through Monday, October 9. All meetings are open to the public except Executive Sessions which may be held during the week to discuss litigation and/or personnel matters.

Council: The agenda for the Council’s plenary session will include the following issues. The Council may take appropriate action on any of the issues identified.

1. Reports:

(a) Executive Director's Report.

(b) State Fisheries Report by Alaska Dept. of Fish and Game.

(c) NMFS Management Report.

(d) Enforcement and Surveillance reports by NMFS and the Coast Guard.

2. Pacific cod/Steller sea lion interactions: Progress report on analysis.

3. American Fisheries Act:

(a) Update on the Environmental Impact Statement and rulemaking.

(b) Final action on groundfish processing sideboards and Bering Sea/Aleutian Islands (BSAI) pollock processing excessive share caps.

(c) Report from industry on Pacific cod sideboard issues.

(d) Consider emergency rule for implementation in 2001.

(e) Review industry proposals relating to co-op contracts and leasing rules and take action as appropriate.

4. Halibut subsistence regulations: final action on alternatives.

5. Halibut Charter Individual Fishing Quota (IFQ) Program:

(a) Preliminary review of draft analysis and progress report.

(b) Discussion of Gulf of Alaska Coastal Community Coalitions proposals with regard to halibut IFQs for communities.

6. Community Development Quota (CDQ) Program:

(a) Initial review of an amendment package to conform State of Alaska and Federal regulations.

(b) Review State of Alaska recommendations for CDQ allocations for 2001.

7. Groundfish Management:

(a) Recommend interim and preliminary harvest specifications for 2001 BSAI and Gulf of Alaska (GOA) groundfish fisheries.

(b) Initial review of an amendment to allocate BSAI Pacific cod among pot gear sectors.

(c) Progress report on rationalization of the GOA groundfish fisheries.

8. Crab Management:

(a) Review of Stock Assessment and Fishery Evaluation reports for BSAI king and Tanner crab.

(b) Progress report on crab co-op development and buyback program.

9. Staff Tasking: Review progress on current staff tasking and provide direction to staff.

Although other issues not contained in this agenda may come before this Council for discussion, in accordance with the Magnuson-Stevens Fishery Conservation and Management Act, those issues may not be the subject of formal Council action during this meeting. Council action will be restricted to those issues specifically identified in the agenda listed in this notice.

Advisory Meetings

Advisory Panel: The agenda for the Advisory Panel will mirror that of the Council listed above, with the exception of the reports under Item 1.

Scientific and Statistical Committee: The Scientific and Statistical Committee will address the following items on the Council agenda:

1. Steller sea lion/Pacific cod interactions.

2. Halibut Charter IFQ Program.

3. CDQ Program

4. All issues under Groundfish Management.

5. All issues under Crab Management.

Other Committee/Workgroup & Industry Meetings

During the meeting week, the following groups will hold meetings to discuss various agenda issues of interest:

Halibut Charter IFQ Committee:

Will meet 1-5 p.m. on Monday, October 2, 2000.

Socio-economic Data Committee:

Will meet 6-7 p.m. on Tuesday, October 3, 2000.

Other committees and workgroups may hold impromptu meetings throughout the meeting week. Such meetings will be announced during regularly-scheduled meetings of the Council, Advisory Panel, and SSC, and will be posted at the hotel.

Special Accommodations

These meetings are physically accessible to people with disabilities. Requests for sign language interpretation or other auxiliary aids should be directed to Helen Allen at 907-271-2809 at least 7 working days prior to the meeting date.

Dated: September 20, 2000.
Richard W. Surdi,
Acting Director, Office of Sustainable Fisheries, National Marine Fisheries Service.

[FR Doc. 00-24587 Filed 9-22-00; 8:45 am]

BILLING CODE 3510-22-S